DEPARTMENT OF AGRICULTURE

Forest Service

South Gifford Pinchot National Forest Resource Advisory Committee

AGENCY: Forest Service, USDA.

ACTION: Notice of meeting.

SUMMARY: The South Gifford Pinchot National Forest Resource Advisory Committee will meet in Stevenson, Washington. The committee is meeting as authorized under the Secure Rural Schools and Community Self-Determination Act (Pub. L. 110-343) and in compliance with the Federal Advisory Committee Act. The purpose of the meeting is make recommendations on 36 proposals for Title II funding of projects.

DATES: The meeting will be held on Thursday, June 17, 2010, 9 a.m-5 p.m.

ADDRESSES: The meeting will be held at the Skamania County Courthouse Annex, 170 NW Vancouver, Ave., Stevenson, WA 98648. Written comments should be sent to Chris Strebig 10600 51st Circle, Vancouver, WA 98682. Comments may also be sent via e-mail to: cstrebig@fs.fed.us or via facsimile to 360-891-5045.

All comments, including names and addresses when provided, are placed in the record and are available for public inspection and copying. The public may inspect comments received at the Gifford Pinchot National Forest. Visitors are encouraged to call ahead to 360-891-5005 to facilitate entry into the building.

FOR FURTHER INFORMATION CONTACT: Chris Strebig, Public Affairs Specialist, at (360) 891-5005, or write to Forest Headquarters Office, Gifford Pinchot National Forest, 10600 NE. 51st Circle, Vancouver, WA 98682.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: Review ongoing Title II projects, elect a committee chair and vicechair, request an indirect project percentage, and provide a public open forum time. Persons who wish to bring related matters to the attention of the Committee may file written statements with the Committee staff before or after the meeting. Public input sessions will be provided and individuals who made written requests by June 15th will have the opportunity to address the Committee at those sessions.

Dated: May 6, 2010.
Kristie L. Miller,
Acting Deputy Forest Supervisor.

[FR Doc. 2010-11442 Filed 5-13-10; 8:45 am]

BILLING CODE M